DEPARTMENT OF EDUCATION

The Use of Tests When Making High-Stakes Decisions for Students: A Resource Guide for Educators and Policymakers

AGENCY: Office for Civil Rights, Department of Education.

ACTION: Notice of availability of draft document and request for comments.

SUMMARY: The Assistant Secretary for Civil Rights announces the availability for public comment of a draft document entitled “The Use of Tests When Making High-Stakes Decisions for Students: A Resource Guide for Educators and Policymakers.” The resource guide is designed to provide educators and policymakers with a useful, practical tool that will assist in their development and implementation of policies that involve the use of tests in making high-stakes decisions for students. The guide provides information about relevant Federal non-discrimination standards and professionally recognized test measurement principles, as well as a collection of resources related to the non-discrimination and test measurement principles discussed in the guide.

DATES: We must receive your comments on the draft document on or before August 7, 2000.

ADDRESSES: Address all comments and requests for copies of the draft document to Jeanette J. Lim, U.S. Department of Education, 400 Maryland Avenue, SW., room 5212 Switzer Building, Washington, DC 20202-1100. Telephone: (202) 205-5557 or 1-800-421-3481. For all comments submitted by letter, you must include the term “Testing Comments.” If you use a telecommunications device for the deaf (TDD), you may call the TDD number at (202) 260-0471 or 1-800-USA-LEARN. The draft document is also available through the Internet at the following site: http://www.ed.gov/offices/OCR/testing.

If you prefer to send your comments through the Internet, use the following address: ocr@ed.gov

You must include the term “Testing Comments” in the subject line of your electronic message.

FOR FURTHER INFORMATION CONTACT: Jeanette J. Lim. Telephone: (202) 205-5557 or 1-800-421-3481. If you use a telecommunications device for the deaf (TDD), you may call the TDD number at (202) 260-0471 or 1-800-USA-LEARN.

Individuals with disabilities may obtain this document in an alternative format (e.g., Braille, large print, audio-tape, or computer diskette) by contacting the Office for Civil Rights' Customer Service Team at (202) 205-5557 or 1-800-421-3481.

SUPPLEMENTARY INFORMATION: The purpose of the draft resource guide is to provide educators and policymakers with information about Federal non-discrimination standards and test measurement principles concerning the proper use of tests in making high-stakes decisions for students. The Department is accepting public comments on the draft resource guide.

Earlier versions of the draft resource guide have been reviewed by the National Academy of Science's Board on Testing and Assessment (BOTA), the U.S. Department of Justice's Civil Rights Division (CRD), and dozens of groups and individuals, including educators, parents, teachers, business leaders, policymakers, and others. BOTA conducted a public hearing on the resource guide on January 26, 2000. This draft seeks to respond to BOTA's, CRD's and other stakeholders' comments.

Invitation To Comment

We invite you to submit comments regarding this draft resource guide.

During and after the comment period, you may inspect all comments received during the public comment period in room 5036, Switzer Building, 330 C Street, SW., Washington, DC, between the hours of 10:00 a.m. and 4:00 p.m., Eastern time, Monday through Friday of each week except Federal holidays.

Assistance to Individuals With Disabilities in Reviewing the Public Record

On request, we will supply an appropriate aid, such as a reader or print magnifier, to an individual with a disability who needs assistance to review the comments or other documents in the public record for this draft resource guide. If you want to schedule an appointment for this type of aid, you may call (202) 205-8113 or (202) 260-9895. If you use a TDD, you may call the Federal Information Relay Service at 1-800-877-8339.

Electronic Access to This Document

You may view this document, as well as all other Department of Education documents published in the Federal Register, in text or Adobe Portable Document Format (PDF), on the Internet at either of the following sites:

http://ocfo.ed.gov/fedreg.htm

http://www.ed.gov/news.html

To use the PDF, you must have Adobe Acrobat Reader, which is available free at either of the previous sites. If you have questions about using the PDF, call the U.S. Government Printing Office (GPO), toll free, at 1-888-293-6498; or in the Washington, DC area at (202) 512-1530.

Note: The official version of this notice is the document published in the Federal Register. Free Internet access to the official edition of the Federal Register and the Code of Federal Regulations is available on GPO Access at: http://www.access.gpo.gov/nara/index.html

Dated: June 28, 2000.
Norma V. Cantú,
Assistant Secretary for Civil Rights.

[FR Doc. 00-16860 Filed 7-5-00; 8:45 am]

BILLING CODE 4000-01-P